Title 3—

The President

Proclamation 7483 of October 9, 2001

Leif Erikson Day, 2001

By the President of the United States of America

A Proclamation

On Leif Erikson Day, we join our friends in Denmark, Finland, Iceland, Norway, and Sweden to celebrate and pay homage to our shared ideals and commemorate the contributions of Nordic Americans to our culture. We honor the explorers who led the first Viking explorations at the beginning of the last millennium, and we pay tribute to the many Nordic pioneers who helped to explore and settle America's 19th Century frontiers. The Nordic and American peoples share the virtues of courage, resourcefulness, and self-reliance, and they have built nations based on the principles of liberty, justice, and equality.

Leif Erikson and his men braved the unknown and risked their lives to become the first Europeans to set foot on North American soil. As we reflect upon Erikson's groundbreaking achievements and marvel at the adversity and dangers he and his explorers endured, we are thankful for their great endeavor and recognize that achieving difficult goals requires people who are courageous and willing to sacrifice, who take action and take risks.

Today, American researchers and entreprenuers, including many of Nordic descent, are making landmark discoveries in the fields of genetics, information technology, biotechnology, and renewable energy. Through our Northern European Initiative and the “Northern Dimension” program that Scandinavian countries have sponsored, we are deepening our cooperation and connections with the Baltic region, building regional links in Northwest Russia, and renewing historic trade relationships. And, we are working closely with our Nordic Allies in NATO by helping to provide for the region's common defense and stability. These and other efforts to improve the world mark the citizens of theUnited States as a people possessing virtues that echo those of Leif Erikson and the first Vikings who landed on our northern shores.

To honor Leif Erikson, the brave son of Iceland and grandson of Norway, and our Nordic American heritage, the Congress, by joint resolution (Public Law 88-66) approved on September 2, 1964, has authorized and requested the President to proclaim October 9 of each year as Leif Erikson Day.

NOW, THEREFORE, I, GEORGE W. BUSH, President of the United States of America, do hereby proclaim October 9, 2001, as Leif Erikson Day. I call upon all Americans to observe this day with appropriate ceremonies, activities, and programs to honor our rich Nordic-American heritage.

IN WITNESS WHEREOF, I have hereunto set my hand this ninth day of October, in the year of our Lord two thousand one, and of the Independence of the United States of America the two hundred and twenty-sixth.

B

[FR Doc. 01-25884

Filed 10-11-01; 8:45 am]

Billing code 3195-01-P